DEPARTMENT OF COMMERCE

Economic Development Administration

Agency Information Collection Activities; Submission to the Office of Management and Budget (OMB) for Review and Approval; Comment Request; Requirements for Approved Construction Investments

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 3, 2021, during a 60-day comment period. This notice allows for an additional 30 days for public comments.

Agency: Economic Development Administration (EDA), Commerce.

Title: Requirements for Approved Construction Investments.

OMB Control Number: 0610-0096.

Form Number(s): None.

Type of Request: Revision and extension of a currently approved information collection.

Number of Respondents: 3,500.

Average Hours per Response: 2 hours.

Burden Hours: Hours: 7,000 hours.

Needs and Uses: To effectively administer and monitor its economic development assistance programs, EDA collects certain information from applicants for, and recipients of, EDA investment assistance. EDA may award assistance for construction projects through its Public Works and Economic Adjustment Assistance (EAA) programs. Public Works program investments help support the construction or rehabilitation of essential public infrastructure and facilities necessary to generate or retain private sector jobs and investments, attract private sector capital, and promote vibrant economic ecosystems, regional competitiveness, and innovation. The EAA program provides a wide range of technical, planning, and infrastructure assistance in regions experiencing adverse economic changes that may occur suddenly or over time.

EDA proposes to revise and extend the checklists and templates that constitute EDA's post-approval tool for construction projects. None of the edits are expected to increase the time burden on the respondent nor do the modifications change the type of information collected.

Affected Public: Recipients of EDA construction (Public Works or EAA) awards, including (1) cities or other political subdivisions of a State, including a special purpose unit of State or local government engaged in economic or infrastructure development activities, or a consortium of political subdivisions; (2) States; (3) institutions of higher education or a consortium of institutions of higher education; (4) public or private non-profit organizations or associations; (5) District Organizations; and (6) Indian Tribes or a consortia of Indian Tribes.

Frequency: As needed during the period of performance of financial assistance awards for construction projects.

Respondent's Obligation: Mandatory.

Legal Authority: The Public Works and Economic Development Act of 1965 (42 U.S.C. 3121 et seq.).

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0096.

Sheleen Dumas,
Department PRA Clearance Officer, Office of the Chief Information Officer, Commerce Department.

[FR Doc. 2021-24935 Filed 11-15-21; 8:45 am]

BILLING CODE 3510-24-P